DEPARTMENT OF STATE

[Public Notice: 10483]

60-Day Notice of Proposed Information Collection: Affidavit of Physical Presence or Residence, Parentage and Support

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to October 9, 2018.

ADDRESSES: You may submit comments by any of the following methods:

• Web: Persons with access to the internet may comment on this notice by going to www.Regulations.gov. You can search for the document by entering “Docket Number: DOS-2018-0032” in the Search field. Then click the “Comment Now” button and complete the comment form.

• Email: RiversDA@state.gov

• Regular Mail: U.S. Department of State, CA/OCS/PMO, SA-17, 10th Floor, Washington, DC 20522-1710.

You must include the DS form number (if applicable), information collection title, and the OMB control number in any correspondence.

SUPPLEMENTARY INFORMATION:

• Title of Information Collection: Affidavit of Physical Presence or Residence, Parentage and Support.

• OMB Control Number: 1405-0187.

• Type of Request: Revision of a Currently Approved Collection.

• Originating Office: Bureau of Consular Affairs, Overseas Citizens Services (CA/OCS).

• Form Number: DS-5507.

• Respondents: Individuals or Households.

• Estimated Number of Respondents: 17,950.

• Estimated Number of Responses: 17,950.

• Average Time per Response: 30 minutes.

• Total Estimated Burden Time: 8,975 annual hours.

• Frequency: On occasion.

• Obligation To Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The information gathered, including dates, places and purposes for time spent in the United States and abroad, is necessary to determine whether a U.S. national biological parent(s) of a child born abroad or in a United States territory has met the statutory physical presence or residence requirements for his or her child to acquire U.S. nationality at birth; and whether a U.S. national father of a child born abroad out of wedlock has met additional requirements of 8 U.S.C. 1409(a) in relation to biological parentage and legal relationship with and financial support of his child born abroad out of wedlock, in order for such child to acquire U.S. nationality at birth.

Methodology

The information is collected in person or is submitted by mail. The form may be accessed online, completed electronically, printed, and signed; or it may be downloaded, printed, and filled out manually.

Michelle Bernier-Toth,
Managing Director, Bureau of Consular Affairs, Department of State.

[FR Doc. 2018-17084 Filed 8-8-18; 8:45 am]

BILLING CODE 4710-26-P